ENVIRONMENTAL PROTECTION AGENCY

[FRL-8530-6 ]

Proposed Administrative Settlement Agreement Under Sections 104, 107 and Section 122 of the Comprehensive Environmental Response, Compensation, and Liability Act for the Fair Lawn Well Field Superfund Site, Located in Fair Lawn, Bergen County, NJ

AGENCY: Environmental Protection Agency.

ACTION: Notice of proposed administrative settlement and opportunity for public comment.

SUMMARY: The United States Environmental Protection Agency (“EPA”) is proposing to enter into an administrative settlement agreement (“Settlement Agreement”) with Eastman Kodak Company, Fisher Scientific Company, LLC and Sandvik, Inc. (“Respondents”) pursuant to Sections 104, 107 and 122 of the Comprehensive Environmental Response, Compensation, and Liability Act (“CERCLA”), 42 U.S.C. 9604, 9607 and 9622. The Settlement Agreement provides for Respondents' payment of certain past costs and performance of the remedial investigation and feasibility study (“RI/FS”) for the Fair Lawn Well Field Superfund Site located within the Borough of Fair Lawn, Bergen County, New Jersey (“Site”).

In accordance with Section 122(i) of CERCLA, 42 U.S.C. 9622(i), this notice is being published to inform the public of the proposed Settlement Agreement and of the opportunity to comment. For thirty (30) days following the date of publication of this notice, EPA will receive written comments relating to the proposed Settlement Agreement. EPA will consider all comments received and may modify or withdraw its consent to the settlement if comments received disclose facts or considerations that indicate that the proposed settlement is inappropriate, improper or inadequate. EPA's response to any comments received will be available for public inspection at EPA Region 2, 290 Broadway, 17th Floor, New York, New York 10007-1866.

DATES: Comments must be provided by March 21, 2008.

ADDRESSES: Comments should reference the Fair Lawn Well Field Superfund Site, EPA Docket No. CERCLA-02-2008-2003, and should be sent to the U.S. Environmental Protection Agency, Office of Regional Counsel, New Jersey Superfund Branch, 290 Broadway, 17th Floor, New York, NY 10007.

FOR FURTHER INFORMATION CONTACT: Damaris Urdaz Cristiano, Assistant Regional Counsel, New Jersey Superfund Branch, Office of Regional Counsel, U.S. Environmental Protection Agency, 17th Floor, 290 Broadway, New York, New York 10007-1866. Telephone: 212-637-3140.

SUPPLEMENTARY INFORMATION: A copy of the proposed administrative settlement, as well as background information relating to the settlement, may be obtained from Damaris Urdaz Cristiano, Assistant Regional Counsel, New Jersey Superfund Branch, Office of Regional Counsel, U.S. Environmental Protection Agency, 17th Floor, 290 Broadway, New York, New York 10007-1866. Telephone: 212-637-3140.

Dated: January 24, 2008.
George Pavlou,
Director, Emergency and Remedial Response Division.

[FR Doc. E8-3116 Filed 2-19-08; 8:45 am]

BILLING CODE 6560-50-P